DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of seven individuals whose property and interests in property have been unblocked pursuant to Executive Order 12978 of October 21, 1995, Blocking Assets and Prohibiting Transactions With Significant Narcotics Traffickers.

DATES: The unblocking and removal from the list of Specially Designated Nationals and Blocked Persons (“SDN List”) of the individuals identified in this notice whose property and interests in property were blocked pursuant to Executive Order 12978 of October 21, 1995, is effective on September 29, 2010.

FOR FURTHER INFORMATION CONTACT: Assistant Director, Compliance Outreach & Implementation, Office of Foreign Assets Control, Department of the Treasury, Washington, DC 20220, tel.: 202-622-2490.

SUPPLEMENTARY INFORMATION:

Electronic and Facsimile Availability

This document and additional information concerning OFAC are available from OFAC's Web site (www.treas.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On September 29, 2010 the Director of OFAC removed from the SDN List the seven individuals listed below, whose property and interests in property were blocked pursuant to the Order:

1. ALZATE SALAZAR, Luis Alfredo, c/o COINTERCOS S.A., Bogota, Colombia; c/o DEPOSITO POPULAR DE DROGAS S.A., Bogota, Colombia; c/o DROGAS LA REBAJA BOGOTA S.A., Bogota, Colombia; c/o LABORATORIOS KRESSFOR DE COLOMBIA S.A., Bogota, Colombia; DOB 27 Nov 1957; Cedula No. 16595689 (Colombia) (individual) [SDNT]

2. AVILA LOPEZ, Gabriel, c/o ADMINISTRADORA DE SERVICIOS VARIOS CALIMA S.A., Cali, Colombia; c/o CHAMARTIN S.A., Cali, Colombia; DOB 3 Aug 1963; Cedula No. 16689631 (Colombia); Passport 16689631 (Colombia) (individual) [SDNT]

3. BAEZA MOLINA, Carlos Alberto, c/o DERECHO INTEGRAL Y CIA. LTDA., Cali, Colombia; c/o INVERSIONES MIGUEL RODRIGUEZ E HIJO, Cali, Colombia; DOB 6 Mar 1958; Cedula No. 16621765 (Colombia) (individual) [SDNT]

4. CHAPARRO MARTINEZ, Elizabeth, c/o ADMINISTRADORA DE SERVICIOS VARIOS CALIMA S.A., Cali, Colombia; DOB 5 May 1968; Cedula No. 31973372 (Colombia); Passport 31973372 (Colombia) (individual) [SDNT]

5. DUQUE CORREA, Francisco Javier, c/o ALMACAES S.A., Bogota, Colombia; c/o CORPORACION DE ALMACENES POR DEPARTAMENTOS S.A., Bogota, Colombia; c/o G.L.G. S.A., Bogota, Colombia; c/o RAMAL S.A., Bogota, Colombia; DOB 04 Apr 1948; POB Medellin, Colombia; Cedula No. 8292581 (Colombia); Passport P009253 (Colombia) (individual) [SDNT]

6. FRANCO RUIZ, Nestor Raul, Carrera 142 No. 18A-80 Casa 23, Cali, Colombia; Avenida 5AN No. 51N-27, Cali, Colombia; DOB 21 Aug 1967; POB Cali, Colombia; Cedula No. 16744648 (Colombia); Passport AF828495 (Colombia) (individual) [SDNT]

7. PEREZ NARVAEZ, Oliverio, Avenida 4 No. 7-75, Cali, Colombia; c/o INTERCONTINENTAL DE AVIACION S.A., Bogota, Colombia; DOB 9 Mar 1938; POB Riofrio, Valle, Colombia; Cedula No. 6488451 (Colombia); Passport AG400146 (Colombia); alt. Passport AG069729 (Colombia) (individual) [SDNT]

Dated: September 29, 2010.
Adam J. Szubin,
Director, Office of Foreign Assets Control.

[FR Doc. 2010-24856 Filed 10-4-10; 8:45 am]

BILLING CODE 4811-AL-P